DEPARTMENT OF TRANSPORTATION

Federal Aviation Administration

Notice of Intent of Waiver With Respect to Land; Capital Region International Airport, Lansing, Michigan

AGENCY: Federal Aviation Administration (FAA), DOT.

ACTION: Notice.

SUMMARY: The FAA is considering a proposal to change approximately 1.24 acres of airport land from aeronautical use to non-aeronautical use and to authorize the lease of airport property located at Capital Region International Airport, Lansing, Michigan. The aforementioned land is not needed for aeronautical use.

The subject property is located at 2824 East Circle Drive, Lansing, Michigan. This property is on the southeast side of the street, south of the Capital Region International Airport's terminal. This property was the location of the former Federal Aviation Administration Automated Flight Service Station. The FAA departed the facility in 2012. The property is currently identified as aeronautical use, however, there is no airside access from the property. The Michigan State Police will purchase the building and lease the land for the Michigan State Police Canine Special Operations Unit.

DATES: Comments must be received on or before December 10, 2018.

ADDRESSES: Documents are available for review by appointment at the FAA Detroit Airports District Office, Katherine Delaney, Community Planner, 11677 South Wayne Road, Suite 107, Romulus, Michigan 48174, Telephone: (734) 229-2900, Fax: (734) 229-2950 and Capital Region Airport Authority, Capital Region International Airport, Jonathon Vrabel, Senior Vice-President, 4100 Capital City Boulevard, Lansing, Michigan, Telephone: (517) 321-6121.

Written comments on the Sponsor's request must be delivered or mailed to: Katherine Delaney, Community Planner, Federal Aviation Administration, Detroit Airports District Office, 11677 South Wayne Road, Suite 107, Romulus, Michigan 48174, Telephone Number: (734) 229-2900, Fax Number: (734) 229-2950.

FOR FURTHER INFORMATION CONTACT: Katherine Delaney, Community Planner, Federal Aviation Administration, Detroit Airports District Office, 11677 South Wayne Road, Suite 107, Romulus, Michigan 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property does not currently have an aeronautical use. It was the location of the previous Federal Aviation Administration Automated Flight Service Station until 2012. The land was acquired by the airport through a Quit Claim Deed with the State of Michigan. The sponsor is proposing to sell the building and lease the land for a non-aeronautical use. The proposed use is for the State of Michigan Police to use the parcel for the Canine Special Operations Unit. The CRAA will sell the building for fair market value and lease the land for fair market value rates.

The disposition of proceeds from the sale of the building and the lease of airport property will be in accordance with FAA's Policy and Procedures Concerning the Use of Airport Revenue, published in the Federal Register on February 16, 1999 (64 FR 7696).

This notice announces that the FAA is considering the release of the subject airport property at the Capital Region International Airport, Lansing, Michigan from its obligations to be maintained for aeronautical purposes. Approval does not constitute a commitment by the FAA to financially assist in the change in use of the subject airport property nor a determination of eligibility for grant-in-aid funding from the FAA.

Commencing at the south ¼ corner of Section 31, T5N., R2W. thence 788.10 ft. along the South Section Line to the Center line of Capital City Blvd. at Station 33+21.71; thence N 0°29′−35″ E along the Center line 1186.29 ft. to Station 45+08; thence S 89°−30′−25″ E (at right angles) 295.15 ft.; thence N 45°−29′−43″ E 74.20 ft. to the point beginning: thence S 44°30′17″ E 300.00 ft.; thence N 45°−29′−43″ E 180.00 ft.; thence N 44°30′17″ W 300.00 ft.; thence S 45°29′43″ W 180.00 ft. to the point of beginning and containing 54000 square feet or 1.24 acres.

Issued in Romulus, Michigan, on November 1, 2018.
John L. Mayfield, Jr.,
Manager, Detroit Airports District Office, FAA, Great Lakes Region.

[FR Doc. 2018-24476 Filed 11-7-18; 8:45 am]

BILLING CODE 4910-13-P